DEPARTMENT OF LABOR

Office of the Secretary

Combating Exploitative Child Labor Through Education in Egypt, Peru and Tanzania; Correction

AGENCY: Bureau of International Labor Affairs, Department of Labor.

ACTION: Notice; correction.

SUMMARY: In notice document 06-4857 (SGA 06-06) beginning on page 30175 of the Thursday, May 25, 2006 issue of the Federal Register make the following corrections (A. and B.):

A. On page 30185 in the 2nd column, add the following language to Section III “Eligibility Information”:

3. Other Eligibility Requirements

The organizational unit section of Block 8 of the SF-424 must contain the Dun and Bradstreet Number (DUNS) of the applicant. Beginning October 1, 2003, all applicants for Federal grant funding opportunities are required to include a DUNS number with their application. See OMB Notice of Final Policy Issuance, 68 Federal Register 38402 (June 27, 2003). Applicants' DUNS number is to be entered into Block 8 of SF-424. The DUNS number is a nine-digit identification number that uniquely identifies business entities. There is no charge for obtaining a DUNS number. To obtain a DUNS number call 1-866-705-5711 or access the following Web site: http://www.dunandbradstreet.com/.

Requests for exemption from the DUNS number requirement must be made to the Office of Management and Budget, Office of Federal Financial Management at 202-395-3993. If no DUNS number is provided then the grant application will be considered non-responsive.

After receiving a DUNS number, all grant applications must also register as a vendor with the Central Contractor Registration through the following Web site: http:www.ccr.gov or by phone at 1-888-227-2423. CCR registration should become active within 24 hours of completion. If grant applicants have questions regarding registration, please contact the CCR Assistance Center at 1-888-227-2423.

After registration, grant applicants will receive a confirmation number. Grantee listed Point of Contact will receive a Trader Partnership Identification Number (TPIN) via mail. The TPIN is, and should remain, a confidential password.

B. On page 30186 in the 2nd column, add the following language at the end of Section IV(3) “Submission Dates, Times, and Address”:

Applicants may also apply online at www.grants.gov. Applicants submitting proposals online are requested to refrain from mailing a hard copy application as well. It is strongly recommended that applicants using www.grants.gov immediately initiate and complete the “Get Started” registration steps at http://www.grants.gov/GetStarted. These steps may take multiple days to complete, and this time should be factored into plans for electronic submission in order to avoid facing unexpected delays that could result in the rejection of an application. If submitting electronically through www.grants.gov, the applicants must save application document as a .doc, .pdf, .txt or .xls file.

Any application received on grants.gov after the deadline will be considered as non-responsive and will not be evaluated.

Signed at Washington, DC, this 9th day of June, 2006.
Lisa Harvey,
Grant Officer.

[FR Doc. E6-9572 Filed 6-16-06; 8:45 am]

BILLING CODE 4510-28-P